DEPARTMENT OF COMMERCE

International Trade Administration

[A-427-818]

Low Enriched Uranium From France: Initiation of Changed Circumstances Review

AGENCY: Enforcement and Compliance, formerly Import Administration, International Trade Administration, Department of Commerce.

SUMMARY: Pursuant to section 751(b) of the Tariff Act of 1930, as amended (the Act), and 19 CFR 351.216 and 351.221(c)(3), the Department of Commerce (Department) is initiating a changed circumstances review (CCR) of the antidumping duty (AD) order on low-enriched uranium (LEU) from France with respect to Global Nuclear Fuel-Americas, LLC (GNF-A).

DATES: Effective February 7, 2014.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

On February 13, 2002, the Department published an order on LEU from France.¹ The order contains a provision to exclude from the scope LEU owned by a:

¹ See Notice of Amended Final Determination and Notice of Antidumping Duty Order: Low Enriched Uranium From France, 67 FR 6680 (February 13, 2002).

foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end user.²

² See id.

On December 23, 2013, GNF-A requested that the Department initiate a CCR due to earthquakes and other external events which have presented changed circumstances not present at the time of the AD order. GNF-A contends that these changed circumstances have affected GNF-A's management of imports to maintain compliance with the AD order, and delayed the re-export of subject merchandise. GNF-A requested that the CCR be conducted on an expedited basis, combining the initiation and preliminary results of the review in a single notice under 19 CFR 351.216(e) and 351.221(c)(3)(ii).

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).

Certain merchandise is outside the scope of the order. Specifically, the order does not cover enriched uranium hexafluoride with a U²³⁵ assay of 20 percent or greater, also known as highly-enriched uranium. In addition, fabricated low-enriched uranium is not covered by the scope of the order. For purposes of the order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of the order.

Also excluded from the order is low-enriched uranium owned by a foreign utility end-user and imported into the United States by or for such end-user solely for purposes of conversion by a U.S. fabricator into uranium dioxide (UO2) and/or fabrication into fuel assemblies so long as the uranium dioxide and/or fuel assemblies deemed to incorporate such imported low-enriched uranium (i) remain in the possession and control of the U.S. fabricator, the foreign end-user, or their designed transporter(s) while in U.S. customs territory, and (ii) are re-exported within eighteen (18) months of entry of the low-enriched uranium for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise subject to this proceeding is dispositive.

Initiation of Changed Circumstances Review

Pursuant to section 751(b) of the Act and 19 CFR 351.216 and 351.221(c)(3), the Department is initiating a CCR of the AD order on LEU from France with respect to GNF-A. Based on the information and documentation GNF-A submitted in its December 23, 2013 letter, we find that we have received information which shows changed circumstances sufficient to warrant initiation of a review. However, the Department finds it necessary to issue a questionnaire for this CCR, as provided for by 19 CFR 351.221(b)(2), and, therefore, the Department will not conduct this CCR on an expedited basis. The Department will publish in the Federal Register a notice of the preliminary results of this CCR, in accordance with 19 CFR 351.221(b)(4) and 351.221(c)(3)(i).

Public Comment

Pursuant to 19 CFR 351.221(b)(4)(ii), interested parties will have an opportunity to comment on the preliminary results of this CCR. In accordance with 19 CFR 351.216(e), the Department will issue the final results of this CCR not later than 270 days after the date on which this CCR is initiated, or not later than 45 days if all parties agree to the outcome of this CCR. The final results will include the Department's analysis of issues raised in any written comments.

We are issuing and publishing this initiation in accordance with section 751(b)(1) of the Act and 19 CFR 351.216 and 351.221(b)(1).

Dated: January 30, 2014.
Christian Marsh,
Deputy Assistant Secretary for Antidumping and Countervailing Duty Operations.

[FR Doc. 2014-02447 Filed 2-6-14; 8:45 am]

BILLING CODE 3510-DS-P